DEPARTMENT OF HEALTH AND HUMAN SERVICES

Centers for Disease Control and Prevention

[Docket No. CDC-2021-0089]

Advisory Committee on Immunization Practices (ACIP); Correction Notice of Meeting

AGENCY: Centers for Disease Control and Prevention, Department of Health and Human Services.

ACTION: Notice.

SUMMARY: In accordance with the Federal Advisory Committee Act, the Centers for Disease Control and Prevention (CDC), announces the following meeting of the Advisory Committee on Immunization Practices (ACIP). This meeting is open to the public. Time will be available for public comment. The meeting will be webcast live via the World Wide Web; for more information on ACIP please visit the ACIP website: http://www.cdc.gov/vaccines/acip/index.html.

SUPPLEMENTARY INFORMATION: Notice is hereby given of a change in the meeting of the Advisory Committee on Immunization Practices (ACIP); August 30, 2021, 10:00 a.m. to 4:00 p.m., and August 31, 2021, 10:00 a.m. to 4:00 p.m., EDT (times subject to change), in the amended FRN.

The virtual meeting was published in the Federal Register on Thursday, August 26, 2021, Volume 86, Number 163, pages 47644-47645.

The virtual meeting is being corrected to change the dates and times, addresses and written public comment and should read as follows:

DATES: The meeting will be held on August 30, 2021, from 10:00 a.m. to 4:00 p.m., EDT (times subject to change). The docket will close on August 30, 2021. Written comments must be received on or before August 30, 2021.

A notice of this ACIP meeting has also been posted on CDC's ACIP website at: http://www.cdc.gov/vaccines/acip/index.html. In addition, CDC has sent notice of this ACIP meeting by email to those who subscribe to receive email updates about ACIP. The meeting is open to the public.

ADDRESSES: You may submit comments, identified by Docket No. CDC-2021-0089 by any of the following methods:

• Federal eRulemaking Portal: https://www.regulations.gov. Follow the instructions for submitting comments.

• Mail: Centers for Disease Control and Prevention, 1600 Clifton Road NE, MS H24-8, Atlanta, Georgia 30329-4027, Attn: August 30, 2021 ACIP Meeting.

Instructions: All submissions received must include the Agency name and Docket Number. All relevant comments received in conformance with the https://www.regulations.gov suitability policy will be posted without change to https://www.regulations.gov, including any personal information provided. For access to the docket to read background documents or comments received, go to https://www.regulations.gov.

In accordance with 41 CFR 102-3.150(b), less than 15 calendar days' notice is being given for this meeting due to the exceptional circumstances of the COVID-19 pandemic and rapidly evolving COVID-19 vaccine development and regulatory processes. The Secretary of Health and Human Services has determined that COVID-19 is a Public Health Emergency.

FOR FURTHER INFORMATION CONTACT: Stephanie Thomas, ACIP Committee Management Specialist, Centers for Disease Control and Prevention, National Center for Immunization and Respiratory Diseases, 1600 Clifton Road NE, MS-H24-8, Atlanta, GA 30329-4027; Telephone: 404-639-8367; Email: ACIP@cdc.gov.

Public Participation

Written Public Comment: The docket will close on August 30, 2021. Written comments must be received on or before August 30, 2021.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-20478 Filed 9-21-21; 8:45 am]

BILLING CODE 4163-18-P